DEPARTMENT OF TRANSPORTATION

Great Lakes St. Lawrence Seaway Development Corporation

33 CFR Part 401

RIN 2135-AA49

Seaway Regulations and Rules

AGENCY: Great Lakes St. Lawrence Seaway Development Corporation, DOT.

ACTION: Final rule.

SUMMARY: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Interpretations; Condition of Vessels; Seaway Navigation; Dangerous Cargo; and Schedule II. These changes are to clarify existing requirements in the regulations. In addition, Congress renamed the Saint Lawrence Seaway Development Corporation (SLSDC) as the Great Lakes St. Lawrence Seaway Development Corporation (GLS) as part of the 2021 Consolidated Appropriations Act, signed into law on December 27, 2020. The joint regulations are being amended to reflect the name change.

DATES: This rule is effective on March 24, 2021.

ADDRESSES: For access to the docket to read background documents or comments received, go to http://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; 315/764-3200.

SUPPLEMENTARY INFORMATION: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Interpretations; Condition of Vessels; Seaway Navigation; Dangerous Cargo; and Schedule II. These changes are to clarify existing requirements in the regulations. In addition, Congress renamed the Saint Lawrence Seaway Development Corporation (SLSDC) as Great Lakes St. Lawrence Seaway Development Corporation (GLS) as part of the 2021 Consolidated Appropriations Act (Section 512 of Division AA of Pub. L. 116-260), signed into law on December 27, 2020. The joint regulations are being amended to reflect the name change.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The joint regulations will become effective in Canada on March 24, 2021. For consistency, because these are joint regulations under international agreement, and to avoid confusion among users of the Seaway, the GLS finds that there is good cause to make the U.S. version of the amendments effective on the same date.

Regulatory Evaluation

This regulation involves a foreign affairs function of the United States and therefore, Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Great Lakes St. Lawrence Seaway Development Corporation, under the authority of 33 U.S.C. 981, amends Chapter IV of title 33 of the Code of Federal Regulations as follows:

1. Revise the heading of chapter IV to read as follows:

Chapter IV—Great Lakes St. Lawrence Seaway Development Corporation, Department of Transportation

PART 401—SEAWAY REGULATIONS AND RULES

Subpart A—Regulations

2. The authority citation for subpart A of part 401 continues to read as follows:

Authority: 33 U.S.C. 983(a) and 984(a) (4), as amended; 49 CFR 1.101, unless otherwise noted.

3. In § 401.2, revise paragraph (a) to read as follows:

§ 401.2 Interpretation.

* * * * *

(a) Corporation means the Great Lakes St. Lawrence Seaway Development Corporation.

* * * * *

4. In § 401.14 revise the heading and add paragraph (c) to read as follows:

§ 401.14 Anchors, Anchor Marking Buoys.

* * * * *

(c) Every vessel shall be equipped with operational anchor(s) suitably rigged for immediate release, holding, and retrieval. Every vessel shall be responsible for locating and retrieving any anchor deployed by the vessel and shall do so in a timely manner so as not to delay transit of vessels.

5. In § 401.20 revise paragraph (b)(6) to read as follows:

§ 401.20 Automatic Identification System.

* * * * *

(b) * * *

(6) Computation of AIS position reports using differential GPS corrections from Canadian Coast Guard's maritime Differential Global Position System (DGPS) radio beacon services or Wide Area Augmentation System (WAAS); or

* * * * *

6. In § 401.29 revise paragraph (c)(1)(i) to read as follows:

§ 401.29 Maximum draft.

* * * * *

(c) * * *

(1) * * *

(i) An operational AIS with accuracy approved by the Seaway; and

* * * * *

7. In § 401.72 revise paragraph (g) to read as follows:

§ 401.72 Reporting—explosive and hazardous cargo vessels.

* * * * *

(g) If a Safety Data Sheet (SDS) on a hazardous cargo that a vessel is carrying is not available in a Seaway Traffic Control Center, the vessel shall provide information enabling the preparation of an SDS.

* * * * *

8. In schedule II to subpart A of part 401, under “Table of Speeds,” revise the entries for “3. Upper Entrance, Upper Beauharnois Lock,” and “4. Lake St. Francis D1” to read as follows:

¹ Maximum speeds at which a vessel may travel in the identified area in both normal and high water conditions are set out in this schedule. The Manager and the Corporation will, from time to time, designate the set of speed limits that is in effect.

Schedule II to Subpart A of Part 401—Table of Speeds 1
From— | To— | Maximum speed over the bottom, knots: Col. III | Maximum speed over the bottom, knots: Col. IV
* * * * * * *
3. Upper Entrance, Upper Beauharnois Lock | Lake St. Francis D1 | 9 (upb); 10. 5 (dnb) | 11 (upb); 13 (dnb)
4. Lake St. Francis D1 | Lake St. Francis D49 | 12 | 12
* * * * * * *

Issued at Washington, DC, under authority delegated at 49 CFR part 1.101—Great Lakes St. Lawrence Seaway Development Corporation.
Carrie Lavigne,
Chief Counsel.

[FR Doc. 2021-05504 Filed 3-22-21; 8:45 am]

BILLING CODE 4910-61-P